INTERNATIONAL TRADE COMMISSION

[Investigation No. 731-TA-25 (Second Review)]

Anhydrous Sodium Metasilicate From France

AGENCY: United States International Trade Commission.

ACTION: Termination of five-year review.

SUMMARY: The subject five-year review was initiated in September 2004 to determine whether revocation of the antidumping duty order on anhydrous sodium metasilicate from France would be likely to lead to continuation or recurrence of dumping and of material injury to a domestic industry. On October 21, 2004, the Department of Commerce published notice that it was revoking the order effective October 21, 2004 because “no domestic party responded to the sunset review notice of initiation by the applicable deadline” (69 FR 61789). Accordingly, pursuant to section 751(c) of the Tariff Act of 1930 (19 U.S.C. 1675(c)), the subject review is terminated.

EFFECTIVE DATE: October 21, 2004.

FOR FURTHER INFORMATION CONTACT: Mary Messer (202) 205-3193), Office of Investigations, U.S. International Trade Commission, 500 E Street, SW., Washington, DC 20436. Hearing-impaired individuals are advised that information on this matter can be obtained by contacting the Commission's TDD terminal on (202) 205-1810. Persons with mobility impairments who will need special assistance in gaining access to the Commission should contact the Office of the Secretary at (202) 205-2000. General information concerning the Commission may also be obtained by accessing its Internet server (http://www.usitc.gov).

Authority: This review is being terminated under authority of Title VII of the Tariff Act of 1930; this notice is published pursuant to section 207.69 of the Commission's rules (19 CFR 207.69).

Issued: November 1, 2004.
By order of the Commission.
Marilyn R. Abbott,
Secretary to the Commission.

[FR Doc. 04-24694 Filed 11-4-04; 8:45 am]

BILLING CODE 7020-02-P